DEPARTMENT OF HEALTH AND HUMAN SERVICES

Centers for Disease Control and Prevention

Notice of Award of a Single-Source Cooperative Agreement To Fund the Southern Provincial Health Office (SPHO), Lusaka Provincial Health Office (LPHO), Western Provincial Health Office (WPHO), and Eastern Provincial Health Office (EPHO) in Zambia

AGENCY: Centers for Disease Control and Prevention (CDC), Department of Health and Human Services (HHS).

ACTION: Notice.

SUMMARY: The Centers for Disease Control and Prevention (CDC), located within the Department of Health and Human Services (HHS), announces the award of approximately $57,500,000 for total year 1 of funding, and an average 1-year award amount of $14,375,000, to the Southern Provincial Health Office (SPHO), Lusaka Provincial Health Office (LPHO), Western Provincial Health Office (WPHO), and Eastern Provincial Health Office (EPHO)in Zambia. The awards will provide the Provincial Health Offices (PHOs) with CDC technical assistance and financial support to maintain and sustain the provinces' overall leadership and oversight for implementing high-impact HIV combination prevention, treatment and support services, including clinical, surveillance, and laboratory services as well as to identify and mitigate emerging disease threats for people living with HIV (PLHIV). Funding amounts for years 2-5 will be set at continuation.

DATES: The period for this award will be September 30, 2022 through September 29, 2027.

FOR FURTHER INFORMATION CONTACT: Carolina Granados, Center for Global Health, Centers for Disease Control and Prevention, 351 Independence Ave., Lusaka, Zambia, Telephone: 800-232-6348, Email: hsy7@cdc.gov.

SUPPLEMENTARY INFORMATION: The single-source award will support the Zambian Ministry of Health to achieve and sustain gains made in HIV epidemic control in four Zambian Provinces, SPHO, LPHO, WPHO, EPHO. The PHOs will provide programmatic oversight, coordination, and direct service delivery in the provision of comprehensive HIV prevention, treatment, and support services, while strengthening health systems for sustainability. Broad areas of support include, but are not limited to:

• HIV prevention services: Voluntary medical male circumcision; Cervical cancer prevention and treatment; Gender based violence Prevention and response; Condom programming; Pre-exposure prophylaxis; Elimination of mother-to-child transmission; Support for Key and vulnerable populations and Orphans and vulnerable children;

• HIV treatment and support services for all age groups across the care continuum from case finding to viral load suppression. Support will include: Prevention and management of opportunistic infections and advanced HIV disease, as well as non-communicable diseases (including support for mental health);

• Health system strengthening including support to financial and administrative management systems, internal controls, human resources for health, health information systems, supply chain/commodities management, laboratory services, and continuous quality improvement.

The Provincial Health Offices are the single entities eligible for this award since they are the sole government institutions with the mandate to support health service delivery through capacity building, systems strengthening, and oversight for HIV program implementation for the population of Zambia per the National Health Policy and Zambian National Health Strategic Plan.

Summary of the Award

Recipient: Southern Provincial Health Office; Lusaka Provincial Health Office; Western Provincial Health Office; and Eastern Provincial Health Office in Zambia.

Purpose of the Award: The purpose of this award is to provide PHOs with CDC technical assistance and financial support to maintain and sustain the province's overall leadership and oversight for implementing high-impact HIV combination prevention, treatment, and support services, including clinical, surveillance, and laboratory services as well as to identify and mitigate emerging disease threats for PLHIV. Specifically, it will serve to strengthen capacity development activities, while providing optimal health systems strengthening in support of continued and sustainable HIV epidemic control in Zambia.

Amount of Award: The approximate year 1 funding amount in Federal Fiscal Year (FFY) 2022 funds will be, subject to the availability of funds:

• Southern Provincial Health Office (SPHO): Anticipated Year 1 Funding Amount is $14,500,000

• Lusaka Provincial Health Office (LPHO): Anticipated Year 1 Funding Amount is $19,000,000

• Western Provincial Health Office (WPHO): Anticipated Year 1 Funding Amount is $12,000,000

• Eastern Provincial Health Office (EPHO): Anticipated Year 1 Funding Amount is $12,000,000;

Funding amounts for years 2-5 will be set at continuation.

Authority:This program is authorized under Public Law 108-25 (the United States Leadership Against HIV AIDS, Tuberculosis and Malaria Act of 2003).

Period of Performance: September 30, 2022, through September 29, 2027.

Dated: March 2, 2022.
Terrance Perry,
Chief Grants Management Officer, Centers for Disease Control and Prevention.

[FR Doc. 2022-04827 Filed 3-7-22; 8:45 am]

BILLING CODE 4163-18-P